DEPARTMENT OF VETERANS AFFAIRS

Annual Pay Ranges for Physicians, Dentists, and Podiatrists of the Veterans Health Administration (VHA)

AGENCY: Department of Veterans Affairs.

ACTION: Notice; correction.

SUMMARY: The Department of Veterans Affairs (VA) is correcting a Notice that published in the Federal Register on September 12, 2018 which provides information that podiatrists be paid from the Veterans Health Administration (VHA) physician and dentist pay system.

DATES: Annual pay ranges are applicable November 25, 2018.

FOR FURTHER INFORMATION CONTACT: Farine Cohen, Program Analyst, Policy and Programs, VHA Workforce Management and Consulting Office (10A2A), Department of Veterans Affairs, 810 Vermont Avenue NW, Washington, DC 20420, (202) 461-7179. This is not a toll-free number.

SUPPLEMENTARY INFORMATION: On September 12, 2018, at 83 FR 46258, VA published a Notice that provides information and gives notices of annual pay ranges for VHA podiatrists as prescribed by the Secretary for Department-wide applicability. The pay table placement and annual salary rates of podiatrists is intended to enhance the flexibility of the Department to recruit, develop, and retain the most highly-qualified podiatrists to serve our Nation's Veterans and maintain a standard of excellence in the VA health care system.

Correction

In FR Doc. 20018-19847, appearing on page 46259 in the Federal Register of 83 FR 46258, the following correction is made:

1. On page 46259, in the Pay Table 1—Clinical Specialty, the minimum TIER 1 dollar amount should be corrected to read as $103,395 vs. $100,967.

Dated: October 24, 2018.
Jeffrey M. Martin,
Assistant Director, Office of Regulation Policy & Management, Office of the Secretary, Department of Veterans Affairs.

[FR Doc. 2018-23670 Filed 10-29-18; 8:45 am]

BILLING CODE 8320-01-P